SECURITIES AND EXCHANGE COMMISSION

[File No. 500-1]

Spencer Pharmaceutical Inc.; Order of Suspension of Trading

December 17, 2012.

It appears to the Securities and Exchange Commission that there is a lack of current and accurate information concerning the securities of Spencer Pharmaceutical Inc. (“Spencer”) because of questions regarding the accuracy of publicly disseminated information, concerning, among other things: (1) The company's current financial condition; and (2) statements made by Spencer in press releases concerning, among other things, an unsolicited buyout offer of Spencer by a foreign company.

The Commission is of the opinion that the public interest and the protection of investors require a suspension of trading in the securities of the above-listed company.

Therefore, it is ordered, pursuant to Section 12(k) of the Securities Exchange Act of 1934, that trading in the securities of the above-listed company, and any equity securities of any entity purporting to succeed to this issuer, is suspended for the period from 9:30 a.m. EST on Monday, December 17, 2012, through 11:59 p.m. EST on Monday, December 31, 2012.

By the Commission.
Elizabeth M. Murphy,
Secretary.

[FR Doc. 2012-30665 Filed 12-17-12; 11:15 am]

BILLING CODE 8011-01-P